DEPARTMENT OF AGRICULTURE

Forest Service

Clear Prong Project, Boise National Forest, ID

AGENCY: Forest Service, USDA.

ACTION: Notice of intent to prepare Environmental Impact Statement.

SUMMARY: The Cascade Ranger District of the Boise National Forest will prepare an environmental impact statement (EIS) for a resource management project in the Clear Creek drainage. The entire project area is located in watersheds that drain into Clear Creek, which in turn drains into the North Fork Payette River below Cascade Reservoir. The 11,056-acre project area is located 10 miles east of Cascade, Idaho, and about 120 miles north of Boise, Idaho.

The agency invites written comments and suggestions on the scope of the analysis. The agency also hereby gives notice of the environmental analysis and decisionmaking process that will occur on the proposal so interested and affected people are aware of how they may participate and contribute to the final decision. At this time, no public meetings to discuss the project are planned.

Proposed Action: Eight objectives have been identified for the project: (1) Relative to Douglas-fir beetle, mountain pine beetle, western pine beetle, western spruce budworm, and/or dwarf mistletoe, manipulate the structures, densities and compositions of stands to maintain a low or moderate susceptibility level, or to decrease susceptibility to a low or moderate level; (2) reduce fuel loads and ladder fuels through the use of prescribed fire where existing forest types indicate such an action could be accomplished without substantial mortality of the overstory trees, and where topographic features would make the use of prescribed fire a practical management action; (3) retain the existing size class of stands currently identified as large tree and manipulate the structure of small and medium tree size class stands to accelerate their movement toward the large tree size class; (4) reduce the densities of stands currently identified as large tree size class to maintain or restore canopy closures within desired conditions; (5) consistent with the particular habitat type, discriminate against shade-tolerant species such as grand fir and subalpine fir and encourage retention and recruitment of several species; (6) improve long-term stand growth to or near levels indicative of sustainable forests; (7) provide wood products to support local and regional economies; and (8) reduce management-induced sediment associated with roads 409, 405B, 405B2, 405C, 405D, and 417HX1.

The Proposed Action would implement silvicultural activities, including thinning of submerchantable trees and prescribed fire, on 2,875 acres. An estimated 9.0 MMBF would be removed using tractor, off-road jammer, skyline, and helicopter yarding systems. The Proposed Action would employ a variety of silvicultrual prescriptions including commercial thin, commercial thin with prescribed fire, sanitation/improvement, sanitation/improvement with prescribed fire, seed cut shelterwood, clearcut with reserve trees, thinning of submerchantable trees, thinning of submerchantable trees with prescribed fire, and prescribed fire.

The Proposed Action would restore an estimated 0.8 mile of the 409 road through maintenance activities to reduce sedimentation. Specifically, gravel would be applied to the surface of the 409 road from near the 409/409D intersection to Clear Creek Summit. Roughly 1.6 miles of temporary road would be constructed to facilitate silvicultrual activities.

An estimated 4.4 miles of existing road (405B, 405B2, 405C, 405D, and 417HX1) not needed for the long-term management of the area would be decommissioned to reduce future maintenance needs and to reduce sedimentation. These five roads would be removed from the transportation system.

Preliminary Issues: Preliminary concerns with the Proposed Action include potential impacts on water quality and terrestrial wildlife species.

Possible Alternatives to The Proposed Action: One alternative to the Proposed Action that has been discussed thus far is a no action alternative. Other alternatives will likely be developed as issues are identified and information received.

Decisions To Be Made: The Boise National Forest Supervisor will decide the following: (1) Should vegetation be managed within the project area at this time, and if so, which stands should be treated and what silvicultural systems applied? (2) Should temporary roads be built at this time, and if so, how many miles should be built and where should they occur within the project area? (3) Should existing classified roads within the project area receive maintenance activities to reduce sedimentation, and if so, where within the project area? (4) Should portions of roads 405B, 405B2, 405C, 405D, and 417HX1 be decommissioned at this time? (5) Based on the completed Clear Prong Project Roads Analysis, which roads should be adopted as the minimum transportation system? (6) What design features and/or mitigation measures should be applied to the project?

DATES: Substantive comments concerning the proposed project and analysis are encouraged and should be postmarked or received within 30 days following publication of this announcement in the Federal Register.

ADDRESSES: Substantive comments should be addressed to the Cascade Ranger District, ATTN: Keith Dimmett, PO Box 696, Cascade, ID 83611 or sent electronically to comments-intermtn-boise-cascade@fs.fed.us. Electronic comments must be submitted in plain text or another format compatible with Microsoft Word. Substantive comments are those within the scope of, are specific to, and have a direct relationship to the proposed action and include supporting reasons that the Responsible Official should consider in reaching a decision. Comments received in response to this request will be available for public inspection and will be released in their entirety if requested pursuant to the Freedom of Information Act.

FOR FURTHER INFORMATION CONTACT: Further information can be obtained from Keith Dimmett at the address mentioned above or by calling 208-382-7400.

Schedule: Draft Environmental Impact Statement (DEIS), June 2005. Final Environmental Impact Statement (FEIS), August 2005.

SUPPLEMENTARY INFORMATION: An estimated 2,194 acres of the Peace Rock Inventoried Roadless Area (IRA) and an additional 252 acres of the Stony Meadows IRA lie within the Clear Prong Project Area. With the exception of a small portion of the prescribed fire, none of the activities associated with the Proposed Action would occur within either IRA.

The entire project area drains into Clear Creek, which was listed in 1998 as impaired under section 303(d) of the Clean Water Act. The pollutant of concern was sediment. There is currently no TMDL in place.

The project area lies within Management Area 17 (North Fork Payette River), discussed on pages III-290 through III-301 in the Forest Plan. Several Management Prescription Categories (MPC's) apply within this Management Area (MA). However, only MPC 4.1c and 5.2 occur within the project area. With the exception of a small portion of the prescribed fire, the Proposed Action includes management activities within MPC 5.2 only.

The comment period on the DEIS will be 45 days from the date the Environmental Protection Agency publishes the notice of availability in the Federal Register.

The Forest Service believes, at this early stage, it is important to give reviewers notice of several court rulings related to public participation in the environmental review process. First, reviews of the DEIS must structure their participation in the environmental review of the proposal so that it is meaningful and alerts an agency to the reviewer's position and contentions. Vermont Yankee Nuclear Power Corp. v. NRDC, 435 U.S. 519, 533 (1978). Also, environmental objections that could be raised at the DEIS stage but are not raised until after completion of the FEIS may be waived or dismissed by the courts. City of Angoon v. Hodel, 803 F.2d 1016, 1002 (9th Cir., 1986) and Wisconsin Heritages, Inc. v. Harris, 490 F. Supp. 1334, (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. it is also helpful if comments refer to specific pages or chapters of the draft statement. Reviewers may wish to refer to the council on Environmental Quality Regulations for implementing the procedural provisions of the National Environmental Policy Act at 40 CFR 1503.3 in addressing these points.

Responsible Official: Richard A. Smith, Forest Supervisor, Boise National Forest, 1249 South Vinnell Way, Suite 200, Boise, ID 83709.

Dated: March 31, 2005.
Richard A. Smith,
Forest Supervisor.

[FR Doc. 05-7478 Filed 4-14-05; 8:45 am]

BILLING CODE 3410-11-M